DEPARTMENT OF TRANSPORTATION

Federal Aviation Administration

14 CFR Part 39

[Docket No. FAA-2006-25668; Directorate Identifier 2006-CE-44-AD; Amendment 39-14815; AD 2006-23-03]

RIN 2120-AA64

Airworthiness Directives; B-N Group Ltd. BN-2, BN-2A, BN-2B, BN-2T, and BN-2T-4R Series (All Individual Models Included in Type Certificate Data Sheet (TCDS) A17EU, Revision 16, Dated December 9, 2002) Airplanes

AGENCY: Federal Aviation Administration (FAA), DOT.

ACTION: Final rule.

SUMMARY: The FAA adopts a new airworthiness directive (AD) for all B-N Group Ltd. BN-2, BN-2A, BN-2B, BN-2T, and BN-2T-4R series (all individual models included in Type Certificate Data Sheet (TCDS) A17EU, Revision 16, dated December 9, 2002) airplanes. This AD requires you to inspect the horizontal stabilizer attachment bolts and anchor nuts for damage and wear and replace damaged and/or worn parts with new, modified parts. If no damaged or worn parts are found during the inspection, this AD requires you to replace the horizontal stabilizer attachment bolts and anchor nuts at a specified time with new, modified parts. This AD results from mandatory continuing airworthiness information (MCAI) issued by the airworthiness authority for the United Kingdom. We are issuing this AD to detect and correct damaged and/or worn horizontal stabilizer attachment bolts and anchor nuts, which could result in failure of the horizontal stabilizer. This failure could result in loss of control.

DATES: This AD becomes effective on December 14, 2006.

As of December 14, 2006, the Director of the Federal Register approved the incorporation by reference of certain publications listed in the regulation.

ADDRESSES: To get the service information identified in this AD, contact B-N Group Ltd., Bembridge Airport, Isle of Wight, PO35 5PR, United Kingdom; telephone: +44 (0) 1983 872511; fax: +44 (0) 1983 873246.

To view the AD docket, go to the Docket Management Facility, U.S. Department of Transportation, 400 Seventh Street, SW., Nassif Building, Room PL-401, Washington, DC 20590-001 or on the Internet at http://dms.dot.gov. The docket number is FAA-2006-25668; Directorate Identifier 2006-CE-44-AD.

FOR FURTHER INFORMATION CONTACT: Albert J. Mercado, Aerospace Engineer, FAA, Small Airplane Directorate, 901 Locust, Room 301, Kansas City, Missouri, 64106; telephone: (816) 329-4119; fax: (816) 329-4090.

SUPPLEMENTARY INFORMATION:

Discussion

On September 11, 2006, we issued a proposal to amend part 39 of the Federal Aviation Regulations (14 CFR part 39) to include an AD that would apply to all B-N Group Ltd. BN-2, BN-2A, BN-2B, BN-2T, and BN-2T-4R series (all individual models included in Type Certificate Data Sheet (TCDS) A17EU, Revision 16, dated December 9, 2002) airplanes. This proposal was published in the Federal Register as a notice of proposed rulemaking (NPRM) on September 15, 2006 (71 FR 54438). The NPRM proposed to require you to inspect the horizontal stabilizer attachment bolts and anchor nuts for damage and wear and replace damaged and/or worn parts with new, modified parts. If no damaged or worn parts are found during the proposed inspection, the NPRM proposed to require you to replace the horizontal stabilizer attachment bolts and anchor nuts at a specified time with new, modified parts.

Comments

We provided the public the opportunity to participate in developing this AD. The following presents the comments received on the proposal and FAA's response to each comment:

Comment Issue No. 1: Publish the Manufacturer Service Information

Jack Buster with the Modification and Replacement Parts Association (MARPA) provides comments on the MCAI AD process pertaining to how the FAA addresses publishing manufacturer service information as part of a proposed AD action. The commenter states that the proposed rule attempts to require compliance with a public law by reference to a private writing (as referenced in paragraph (e) of the proposed AD). The commenter would like the FAA to incorporate by reference (IBR) the B-N Group Ltd. service information.

We agree with Mr. Buster. However, we do not IBR any document in a proposed AD action, instead we IBR the document in the final rule. Since we are issuing the proposal as a final rule AD action, B-N Britten-Norman Aircraft Limited Service Bulletin number SB 302, Issue 2, dated April 12, 2005, and B-N Group Ltd. Modification Leaflet for Mod NB-M-1787, Issue 1, dated August 1, 2005, are incorporated by reference.

Comment Issue No. 2: Availability of IBR Documents in the Docket Management System (DMS)

Mr. Buster requests IBR documents be made available to the public by publication in the Federal Register or in the DMS.

We are currently reviewing issues surrounding the posting of service bulletins in the Department of Transportation's DMS as part of the AD docket. Once we have thoroughly examined all aspects of this issue and have made a final determination, we will consider whether our current practice needs to be revised.

Comment Issue No. 3: Allow Replacement With FAA-approved Equivalent Parts

Mr. Buster requests allowing the use of FAA-approved equivalent parts for replacing the horizontal stabilizer attachment bolts and anchor nuts with modified horizontal stabilizer attachment bolts.

We agree with Mr. Buster. We will allow the use of FAA-approved equivalent parts when installing the modified horizontal stabilizer attachment bolts.

We are adding the phrase “or FAA-approved equivalent part” in paragraphs (e)(2), (e)(3), and (e)(4) of this AD based on this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Differences Between the Foreign Airworthiness Authority AD, the Service Bulletin, and This AD

The MCAI British AD No. G-2004-0014 R1, Effective Date: July 29, 2005, and B-N Britten-Norman Aircraft Limited Service Bulletin number SB 302, Issue 2, dated April 12, 2005, allow 1,000-hour repetitive inspections of the horizontal stabilizer attachment bolts and anchor nuts with the option of installing the new, modified horizontal stabilizer attachment bolts as a terminating action for the repetitive inspections. This AD does not allow continued repetitive inspections.

The actions required by this AD are consistent with the FAA's aging commuter aircraft policy, which briefly states that, when a modification exists that could eliminate or reduce the number of required critical inspections, the modification should be incorporated. This policy is based on the FAA's determination that reliance on critical repetitive inspections on airplanes utilized in commuter service carries an unnecessary safety risk when a design change exists that could eliminate or, in certain instances, reduce the number of those critical inspections. In determining what inspections are critical, the FAA considers (1) The safety consequences of the airplane if the known problem is not detected by the inspection; (2) the reliability of the inspection such as the probability of not detecting the known problem; (3) whether the inspection area is difficult to access; and (4) the possibility of damage to an adjacent structure as a result of the problem.

Costs of Compliance

We estimate that this AD will affect 91 airplanes in the U.S. registry.

We estimate the following costs to do the inspection:

Labor cost | Parts cost | Total cost per airplane | Total cost on U.S. operators
1 work-hour × $80 per hour = $80 | Not applicable | $80 | $80 × 91 = $7,280.

We estimate the following costs to do the replacements:

Labor cost | Parts cost | Total cost per airplane | Total cost on U.S. operators
3 work-hours × $80 per hour = $240 | $1,600 | $240 + $1,600 = $1,840 | $1,840 × 91 = $167,440.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-25668; Directorate Identifier 2006-CE-44-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-23-03 B-N Group Ltd: Amendment 39-14815; Docket No. FAA-2006-25668; Directorate Identifier 2006-CE-44-AD.

Effective Date

(a) This AD becomes effective on December 14, 2006.

Affected ADs

(b) None.

Applicability

(c) This AD applies to all BN-2, BN-2A, BN-2B, BN-2T, and BN-2T-4R series (all individual models included in Type Certificate Data Sheet (TCDS) A17EU, Revision 16, dated December 9, 2002) airplanes; that are certificated in any category.

Unsafe Condition

(d) This AD is the result of mandatory continuing airworthiness information (MCAI) issued by the airworthiness authority for the United Kingdom. The actions specified in this AD are intended to detect and correct damaged and/or worn horizontal stabilizer attachment bolts and anchor nuts, which could result in failure of the horizontal stabilizer. This failure could result in loss of control.

Compliance

(e) To address this problem, you must do the following, unless already done:

Actions | Compliance | Procedures
(1) Inspect the horizontal stabilizer attachment bolts and anchor nuts for damage and wear | Within the next 50 hours time-in-service (TIS) or 2 months, whichever occurs first, after December 14, 2006 (the effective date of this AD) | Follow B-N Britten-Norman Aircraft Limited Service Bulletin number SB 302, Issue 2, dated April 12, 2005.
(2) If you find any damaged or worn horizontal stabilizer attachment bolts and/or anchor nuts during the inspection required in paragraph (e)(1) of this AD, replace with new, modified horizontal stabilizer attachment bolts as specified in the service information (or FAA-approved equivalent part) | Before further flight after the inspection required in paragraph (e)(1) of this AD | Follow B-N Britten-Norman Aircraft Limited Service Bulletin number SB 302, Issue 2, dated April 12, 2005. Do any necessary replacements following B-N Group Ltd. Modification Leaflet for Mod NB-M-1787, Issue 1, dated August 1, 2005.
(3) If you do not find damaged or worn horizontal stabilizer attachment bolts and/or anchor nuts during the inspection required in paragraph (e)(1) of this AD, replace the horizontal stabilizer attachment bolts and anchor nuts with new, modified horizontal stabilizer attachment bolts as specified in the service information (or FAA-approved equivalent part) | Upon accumulating 1,000 hours TIS after the inspection required in paragraph (e)(1) of this AD | Follow B-N Group Ltd. Modification Leaflet for Mod NB-M-1787, Issue 1, dated August 1, 2005.
(4) You may replace the horizontal stabilizer attachment bolts and anchor nuts with the new, modified horizontal stabilizer attachment bolts as specified in the service information (or FAA-approved equivalent part) at any time, but no later than the applicable times specified in paragraphs (e)(2) and (e)(3) of this AD. After installing the new, modified horizontal stabilizer attachment bolts, no further action is required | As of December 14, 2006 (the effective date of this AD) | Follow B-N Group Ltd. Modification Leaflet for Mod NB-M-1787, Issue 1, dated August 1, 2005.

Alternative Methods of Compliance (AMOCs)

(f) The Manager, Standards Staff, FAA, Small Airplane Directorate, ATTN: Albert J. Mercado, Aerospace Engineer, 901 Locust, Room 301, Kansas City, Missouri 64106; telephone: (816) 329-4119; fax: (816) 329-4090, has the authority to approve AMOCs for this AD, if requested using the procedures found in 14 CFR 39.19.

Related Information

(g) MCAI United Kingdom Civil Aviation Authority AD No. G-2004-0014 R1, Effective Date: July 29, 2005, also addresses the subject of this AD.

Material Incorporated by Reference

(h) You must use B-N Britten-Norman Aircraft Limited Service Bulletin number SB 302, Issue 2, dated April 12, 2005, and B-N Group Ltd. Modification Leaflet for Mod NB-M-1787, Issue 1, dated August 1, 2005, to do the actions required by this AD, unless the AD specifies otherwise.

(1) The Director of the Federal Register approved the incorporation by reference of this service information under 5 U.S.C. 552(a) and 1 CFR part 51.

(2) For service information identified in this AD, contact B-N Group Ltd., Bembridge Airport, Isle of Wight, PO35 5PR, United Kingdom; telephone: +44 (0) 1983 872511; fax: +44 (0) 1983 873246.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on October 30, 2006.
Kim Smith,
Manager, Small Airplane Directorate, Aircraft Certification Service.

[FR Doc. E6-18723 Filed 11-8-06; 8:45 am]

BILLING CODE 4910-13-P